DEPARTMENT OF TRANSPORTATION

Federal Transit Administration

Solicitation of Applications for Certain Funding Available in Fiscal Year 2007 Under the Federal Transit Administration's Section 5309 Bus and Bus-Related Facilities Discretionary Grant Program To Support Urban Partnerships

AGENCY: Federal Transit Administration (“FTA”), DOT.

ACTION: Notice of funding availability; solicitation for applications.

SUMMARY: This notice solicits applications for a significant portion of funds not “earmarked” by law and otherwise available in Fiscal Year 2007 under the Section 5309 Bus and Bus-Related Facilities Discretionary Grant Program (the “Bus Program”) reserved by the Federal Transit Administration (“FTA”) for proposals selected in accordance with the terms of this notice. Under 49 U.S.C. 5309, the FTA Administrator, acting on behalf of the U.S. Secretary of Transportation (the “Secretary”), has the discretion to award grants for bus and bus-related equipment and facilities. By this notice, the Department, acting through FTA, is seeking applications to the Bus Program that support the objectives of the National Strategy to Reduce Congestion on America's Transportation Network (the “Congestion Initiative”) established in May 2006 by the U.S. Department of Transportation (the “Department”). This Notice is one of four solicitations issued by the Department to date in connection with the Urban Partnership Program as part of the Congestion Initiative. See below “Supplementary Information: Coordination with Other Urban Partnership Program Solicitations.”

DATES: Applications must be submitted by May 22, 2007. Late-filed applications may be considered to the extent practical.

ADDRESSES: Applications may be submitted electronically to http://www.grants.gov(“Grants.Gov”). Grants.Gov allows organizations electrically to find and apply for competitive grant opportunities from all Federal grant-making agencies. Grants.Gov is the single access point for over 1,000 grant programs offered by the twenty-six grant-making agencies of the U.S. Government. Any party wishing to apply to the Bus Program pursuant to this notice should immediately initiate the process of registering with Grants.Gov at http://www.grants.gov to ensure completion of registration before the deadline for submission of applications. Please confirm all Grants.Gov submissions by e-mailing busprogram@dot.gov. Applications may also be submitted via e-mail at busprogram@dot.gov.

FOR FURTHER INFORMATION CONTACT: Please address questions concerning this notice to David B. Horner, Esq., Chief Counsel, Federal Transit Administration, U.S. Department of Transportation, via e-mail at David.Horner@dot.gov. or to Thomas M. McNamara, Office of the Secretary, via e-mail at Thomas.McNamara@dot.gov.

SUPPLEMENTARY INFORMATION:

A. Coordination With Other Urban Partnership Program Solicitations.

This solicitation is one of four solicitations issued to date by the Department in connection with the Urban Partnership Program. The other three solicitations are:

(1) Solicitation for the Urban Partnership Agreement (“UPA”). The purpose of the UPA solicitation, published on December 8, 2006, in the Federal Register at 71 FR 71233, is to solicit proposals by metropolitan areas to enter into UPAs with the Department in order to demonstrate strategies with a combined track record of effectiveness in reducing traffic congestion.

(2) Solicitation for the Value Pricing Pilot (“VPP”) Program. The VPP Program, as authorized by Section 1012(b) of the Intermodal Surface Transportation Efficiency Act (“ISTEA”), as amended (23 U.S.C. 149 note), supports implementation of a variety of pricing-based approaches for managing congestion on highways. The solicitation for the VPP Program, published on December 22, 2006, in the Federal Register at 71 FR 77084, aligns the program with the Congestion Initiative to support metropolitan areas in implementing broad congestion pricing strategies in the near term.

(3) Solicitation for the Intelligent Transportation System Operational Testing to Mitigate Congestion Program (“ITS-OTMC”). The ITS Research and Development Program, as reauthorized in subtitle C of title 5 of SAFETEA-LU, supports the research, development and testing of ITS for a variety of purposes. The solicitation for the ITS-OTMC Program, published on December 18, 2006, in the Federal Register at 71 FR 75806, supports the operational testing and evaluation of advanced technologies to reduce metropolitan congestion.

Please note: Applicants for funding under the UPA, ITS-OTMC and/or VPP Programs that also wish to apply for funding under this announcement must respond to each solicitation separately. However, the Department will accept identical copies of a single application as long as it satisfies the requirements of each relevant solicitation.

B. Background

Solicitation. In service on U.S. streets today are approximately 50,000 transit buses which have been purchased in part with funds distributed by the Federal Transit Administration (“FTA”). On average, FTA grantees purchase each year more than 4,000 buses, of which approximately 20% are acquired in part with Federal assistance provided under the Section 5309 Bus and Bus-Related Facilities Discretionary Grant Program (the “Bus Program”).

By this notice, the Department, acting through FTA, is seeking applications to the Bus Program that support the objectives of the National Strategy to Reduce Congestion on America's Transportation Network (the “Congestion Initiative”). For this purpose, FTA will reserve a significant portion of the funds not “earmarked” by law and otherwise available in Fiscal Year 2007 under the Bus Program for projects selected in accordance with this notice. By separate notice to be published in the Federal Register, FTA will solicit proposals for use of those funds not distributed pursuant to this notice and not earmarked by law to support other critical investment needs in both rural and urban areas.

Crisis of Congestion. Traffic congestion affects people in nearly every aspect of their daily lives—where they live, where they work, where they shop, and how much they pay for goods and services. According to 2003 figures, in certain metropolitan areas the average rush hour driver loses as many as ninety-three hours per year to travel delay—the equivalent of more than two weeks of work that amounts annually to a “congestion tax” as high as $1,598 per traveler in wasted time and fuel.¹ Nationwide, congestion imposes costs on the economy of at least $63 billion per year.² The costs of congestion are higher when taking into account the significant cost of unreliability to drivers and businesses, the environmental impacts of idle-related auto emissions, increased gasoline prices and the immobility of labor markets that result from congestion.

¹ Texas Transportation Institute (“TTI”), 2005 Urban Mobility Report, May 2005 (http://tti.tamu.edu/documents/mobility_report_2005.pdf), Tables 1 and 2.

² TTI, 2005 Urban Mobility Report, p. 1.

Traffic congestion also has a substantial negative impact upon the quality of life of many American families. In a 2005 survey, for example, 52% of Northern Virginia commuters reported that their travel times to work had increased in the past year,³ leading 70% of working parents to report having insufficient time to spend with their children and 63% of respondents to report having insufficient time to spend with their spouses.⁴ Nationally, in a 2005 survey conducted by the National League of Cities, 35% of U.S. citizens reported traffic congestion as the most deteriorated living condition in their cities over the past five years; 85% responded that traffic congestion was as bad as, or worse than, it was in the previous year.⁵ Similarly, in a 2001 survey conducted by the U.S. Conference of Mayors, 79% of Americans from ten metropolitan areas reported that congestion had worsened in the prior five years; 50% believe it has become “much worse.” ⁶

³ Northern Virginia Transportation Alliance 2005 Survey (http://www.nvta.org/content.asp?contentid=1174).

⁴ Virginia Department of Transportation.

⁵ National League of Cities survey of cities (2005).

⁶ U.S. Conference of Mayors survey on traffic congestion (2001).

The Congestion Initiative & Urban Partnership Agreement. In May 2006, in response to the “crisis of congestion,” the Department announced the Congestion Initiative and its intention to enter into “Urban Partnership Agreements” (or “UPAs”) with qualified metropolitan areas (or “urban partners”) in order to implement strategies with a proven track-record of effectiveness in reducing traffic congestion. On December 8, 2006, the Department published in the Federal Register at 71 FR 71233 its official solicitation of urban partners. Under UPAs, as described in the solicitation, the Department and its urban partners would agree to pursue four strategies to reduce traffic congestion, known as the “Four Ts:”

(1) Tolling: Implementing a broad congestion pricing or variable toll demonstration;

(2) Transit: Creating or expanding express bus services, bus rapid transit (“BRT”) or other innovative commuter transit services, which would benefit from the free-flow traffic conditions generated by pricing;

(3) Telecommuting: Securing agreements from major area employers to establish or expand telecommuting and flex scheduling programs; and

(4) Technology & operations: Using cutting-edge technological and operational approaches to improve transportation system performance.

In return for their commitment to adopt innovative, system-wide solutions to traffic congestion, the Department, to the maximum extent possible, would support its urban partners with the Department's financial resources (including a combination of grants, loans, and borrowing authority), regulatory flexibility and dedicated expertise and personnel.

Congestion Pricing. The most innovative component of the UPA is congestion pricing. Congestion pricing leverages the principles of supply and demand to manage traffic. It does this by charging drivers a user fee that varies by traffic volumes or time of day, thus managing highway resources in a manner that promotes free-flow traffic conditions on highways at all times. Congestion pricing achieves free-flow conditions by shifting purely discretionary rush hour highway travel to other transportation modes or to off-peak periods, taking advantage of the fact that many rush hour drivers on a typical urban highway are not commuters. By removing a fraction of the vehicles from a congested rush hour roadway, congestion pricing enables the system to flow much more efficiently by allowing more cars to move through the same physical space. Similar variable charges have been successfully used in other industries (airline tickets, cell phone rates, and electricity, for example), and a consensus exists among economists that congestion pricing represents the single most viable approach to reducing traffic congestion.

Congestion pricing can be implemented using various methods, including corridor pricing, cordon pricing, and area pricing systems. A corridor pricing system charges drivers when they use certain roads or corridors during peak congestion periods. For example, under a corridor pricing system, drivers may be charged for using all corridors leading into a central business district during peak congestion periods, but would not be charged for entering the central business district itself or for any movement while in the central business district. In contrast, a cordon pricing system charges drivers when they enter a specific area during peak congestion periods. For example, under a cordon pricing system, a driver may be charged only when entering a central business district during peak congestion periods, but not charged for using corridors into the central business district or for any movement within the central business district. In further contrast, an area pricing system charges drivers for all trips made within a specific area during peak congestion periods. For example, under an area pricing system, a driver could be charged for all trips made within a central business district during peak congestion periods.

In all its forms, congestion pricing benefits drivers and businesses by reducing delays and stress, increasing the predictability of trip times, and allowing for more deliveries per hour. It benefits public transportation by improving transit speeds and the reliability of transit service, increasing transit ridership and lowering costs per traveler for transit providers. It benefits State and local government by improving the quality of transportation services without tax increases or large capital expenditures, providing additional revenues for funding transportation, retaining businesses and expanding the tax base. It saves lives by shortening incident response times for emergency responders. And it benefits society as a whole by reducing fuel consumption and vehicle emissions, allowing for more efficient land use decisions, reducing housing market distortions, and increasing time available for participation in civic life.

Congestion pricing is no longer simply a theory; it has demonstrated positive results both in the U.S. and around the world. Successful American applications of congestion pricing include California's SR-91 between Anaheim and Riverside, portions of I-15 outside of San Diego, and Express Lanes on I-394 between downtown Minneapolis and its western suburbs, all of which have enabled congestion-free rush hour commuting and proven popular with drivers of all income levels. Internationally, congestion pricing has yielded dramatic reductions in traffic congestion and increases in travel speeds in Singapore, London, and Stockholm. Notably, a small reduction in vehicles can yield dramatic improvements in traffic, as demonstrated by a British study, which projected that a 9% drop in traffic could yield a 52% drop in congestion delay.⁷ This same dynamic plays out in metropolitan areas every August, as family vacations lead to a minor decrease in rush hour drivers, which substantially reduces area traffic congestion.

⁷ Department of Transport, U.K., Feasibility Study of Road Pricing in the U.K.: A Report to the Secretary of State for Transport, Road Price Steering Group, Chapter 4, Figure 3.

Transit. Another critical congestion-reducing strategy to be incorporated into UPAs is increasing the quality and capacity of peak-period transit service in order to offer a more attractive alternative to automobile travel and to accommodate peak-period commuters who elect to switch to transit in response to the adoption of congestion pricing.

Congestion pricing and public transportation benefit each other: Road pricing benefits public transportation by improving transit speeds and the reliability of transit service, increasing transit ridership, lowering costs per traveler for transit providers, and expanding the source of revenue that may be used for transit; while public transportation benefits road pricing by absorbing commuters who shift their travel from automobile to bus or rail. By replacing congested traffic with free-flowing conditions on major routes, congestion pricing will improve the speed and productivity of current express bus services, making them more attractive to commuters while reducing their operating costs per traveler. Reducing congestion will also facilitate rapid deployment of innovative, high-performance BRT operations in major corridors, which require only modest investments in new vehicles and passenger facilities that may be eligible for financial support through the Department's various funding mechanisms. Improving the performance and variety of peak-period transit commuting options through a combination of congestion pricing and limited capital investment will provide significant benefits to current transit riders, while improving transit's effectiveness in reducing peak-period auto travel and providing the expanded passenger-carrying capacity necessary to accommodate shifts to transit commuting induced by the adoption of congestion pricing.

Telecommuting. The third critical congestion-reducing strategy for urban partners to adopt is promoting increased use of telecommuting and flexible work scheduling, in order to reduce peak-period commuting and shift some commuting travel to “shoulder” or off-peak hours. Telecommuting can eliminate some peak-period commuting travel by using computer and electronic communications technology to enable certain employees to work from their homes or nearby telecommuting centers on predetermined (often regularly scheduled) workdays, or in some cases on a full-time basis. Flexible work schedules allow employees to shift their commute trips from the peak period to less congested hours. The most promising means to achieve these objectives is for public officials representing urban partners to secure agreements from major employers in their metropolitan areas to establish or expand telecommuting programs, and to offer flexible work schedules to the maximum number of their employees. The Department and local transportation planning agencies can offer technical and logistical support to employers for designing, implementing, and monitoring the effectiveness of telecommuting programs and flexible work scheduling.

Technology. Technology makes possible congestion pricing, which differs from traditional tolling in two material respects: (1) Instead of charging a fixed fee, congestion pricing manages traffic by charging drivers a user fee that varies by traffic volumes or time of day, thus balancing supply and demand; and (2) unlike traditional tolling, congestion fees are collected electronically at highway speeds. With variable pricing, technology affords highway managers the flexibility of setting user fees by time of day or “dynamically,” at three minute intervals in some cases, by increasing or decreasing fees automatically depending on traffic volumes to maximize throughput and the free flow of traffic. Technology facilitates this variability by enabling the collection of user fees at highway speeds through the use of transponders, Global Positioning Systems (“GPS”), or cameras. With transponders, or “tags,” tolls may be collected as vehicles pass under overhead antennae. With GPS technology, like that used on Germany's autobahns, an in-vehicle device records charges based on the vehicle's location, and periodically uploads a summary of charges to a processing center along with payments. And with cameras, highway managers can record the license tags of vehicles that are not equipped with a transponder or GPS unit and charge what is called a “video toll.”

In addition, technological advancements may enhance the quality of transit service deployed to reduce urban congestion. These technology-based improvements may include lane-keeping devices or longitudinal control designed to enhance spatial efficiency on existing highways, precision docking, signal priority systems for buses, contactless fare collection, real-time travel information (bus arrival times, schedules, etc.), advanced traveler information systems, parking alerts and automatic vehicle locator systems.

Other technological innovations that may help reduce congestion include:

• Telecommuting technology, including high-speed wireless internet service to allow download of large files, called “WiMax.”

• Traffic management technology, including adaptive traffic signal control systems and the use of cameras to provide real-time information to first responders that will help them determine what equipment they will need before they arrive at the site of an accident or incident.

• Advanced traveler information systems that include web or wireless access to route-specific travel time and toll information; route planning assistance using historical records of congestion by time of day; and communications technologies that gather traffic- and incident-related data from a few vehicles traveling on a roadway and then publish that information to drivers via mobile phones, in-car units or dynamic message signs.

C. Applications to the Bus Program

Overview. The purpose of this notice is to solicit applications by eligible parties for a significant portion of funds not “earmarked” by law and otherwise available in Fiscal Year 2007 under the Bus Program reserved by FTA for proposals selected in accordance with the terms of this notice. Under 49 U.S.C. 5309, the Administrator of FTA, acting on behalf of the Secretary, is authorized to make grants to provide capital assistance for the acquisition of buses and bus-related equipment and facilities. By this notice, the Department is seeking applications to the Bus Program that supports the objectives of the Congestion Initiative. This section sets forth the criteria that FTA will apply to select proposals for funding pursuant to this notice.

Applicant Eligibility. To be eligible to apply for funding pursuant to this notice, an applicant must satisfy the following conditions:

(1) The applicant is a state or public body or agency or subdivision thereof, or a public corporation, board or commission established under state or local law for transportation purposes, in each case duly recognized by FTA as a grantee; ⁸

⁸ Private operators may now receive FTA funds, through eligible recipients, without competition if they are included in a program of projects submitted by the designated public authority acting as the primary recipient of a grant.

(2) The applicant is located within a Metropolitan Statistical Area or Consolidated Metropolitan Statistical Area, as defined by the U.S. Census Bureau, which has (A) a travel-time index of 1.25 or greater, as reported by the Texas Transportation Institute (“TTI”) in its 2005 Annual Urban Mobility Report, or (B) an annual congestion cost per traveler of $600 or greater, as reported by TTI in its 2005 Urban Mobility Report, or (C) a number of hours of congestion per day of seven hours or greater, as reported by TTI in its 2005 Urban Mobility Report; (Please note: A table of jurisdictions sorted by the foregoing metrics is attached as Appendix A of this notice); ⁹

⁹ See U.S. Census Bureau, Current List of Metropolitan and Micropolitan [sic] Statistical Areas and Definitions, available at http://www.census.gov/population/www/estimates/metroarea.html (last visited January 24, 2007); Timothy Lomax and David Schrank. Texas Transportation Institute. “The 2005 Urban Mobility Report.” May 2005. (http://tti.tamu.edu/documents/mobility_report_2005.pdf) (last visited January 24, 2007).

(3) The applicant can demonstrate, either by a motion from its board of directors or letter from an authorizing authority, that it is located within a jurisdiction that has adopted, or proposes to adopt within two years after the date of this notice, a congestion reduction demonstration; ¹⁰ and

¹⁰ FTA has elected to not define the term “congestion reduction demonstration” but strongly encourages applicants to adopt congestion reduction demonstrations that incorporate each of the “Four Ts” or similar strategies to reduce traffic congestion. See the section of this notice entitled “Background.”

(4) The applicant proposes to use the funds applied for to improve existing transit service or to provide new transit service in a corridor, cordon or area ¹¹ that is part of a congestion reduction demonstration.

¹¹ For a summary of congestion pricing strategies as they relate to “corridors,” “cordons” or “areas,” please see the section of this notice entitled “Background.”

Project Eligibility. Only capital projects eligible under the Section 5309 Bus Program and that improve existing transit service or provide new transit service in a corridor, cordon or area that is part of a congestion reduction demonstration shall be eligible for funding pursuant to this notice.

Eligible Costs. Eligible costs of a project funded under the Section 5309 Bus Program include the acquisition of buses for fleet and service expansion, bus maintenance and administrative facilities, transfer facilities, bus malls, transportation centers, intermodal terminals, park-and-ride stations, acquisition of replacement vehicles, bus rebuilds, passenger amenities such as passenger shelters and bus stop signs, accessory and miscellaneous equipment such as mobile radio units, supervisory vehicles, fare boxes, computers and shop and garage equipment.

Selection Criteria. To select applicants for funding and to determine amounts awarded pursuant to this notice, FTA will consider the following factors:

(1) The extent to which the congestion reduction demonstration is reasonably projected to reduce congestion from current levels on major highways and arterial facilities within the demonstration area, as measured by projected travel speeds, “levels of service” or other objective measures of performance during the hours when the congestion reduction demonstration is in effect;

(2) The extent to which the congestion reduction plan is reasonably projected to enable improvements in transit service on major highways and arterial facilities within the demonstration area, as measured by projected reductions from current levels in scheduled running times or intervals between departures or other objective measures of performance during the hours when the congestion reduction plan is in effect;

(3) The extent to which the acquisition or improvement of transit assets deployed within the demonstration area is necessary to enable improvements in transit service within the demonstration area, as measured by qualitative benefits to transit users, including, without limitation, amenities such as high-quality seating, on-board electric power sources, wireless computer connections, interior vehicle lighting or enclosed or sheltered waiting areas; and

(4) The extent to which the acquisition or improvement of transit assets deployed within the demonstration area is necessary to enable improvements in transit service described in subsections (1), (2) and (3) above.

Grant Requirements. Applicants must address FTA's standard requirements for an application for Section 5309 capital program assistance found in FTA's Circular C 9300.1A “Capital Program: Grant Application Instructions” ¹² and FTA's Circular C 5010.1C “Grant Management Guidelines.” ¹³

¹² See http://www.fla.dot.gov/funding/grants/grants_financing_3557.html.

¹³ See http://www.fta.dot.gov/laws/circulars/leg_reg_4114.html.

Contents of Application

(1) Applicant Information. Applicants for funding under this announcement must designate a point of contact and provide their name and contact information, including phone number, mailing address and e-mail address.

(2) Project Description. Applicants should address each of the selection criteria set forth in “Selection Criteria” above. Applicants should also briefly describe, with respect to the metropolitan area in which the applicant is located, (i) why the area's traffic congestion is severe, (ii) the local public's acknowledgement of the problem, (iii) the readiness of the area's political leadership to solve the problem, and (iv) a proposed solution to congestion that may incorporate the Four Ts. The application should not exceed twenty-five pages in length, including both the proposal details and appendix materials. Appendix materials may include maps of roadways and other affected facilities (such as bridges and parallel routes), maps of BRT routes and other transit services or facilities that are directly involved and a list of possible local employers that might endorse new or expanded telecommuting and flextime policies for their employees.

(3) Congestion reduction demonstration. An application should generally describe the metropolitan area's proposed congestion reduction demonstration, and explain how different parts of that strategy, if any, would interact to reduce congestion.

(4) Congestion Pricing Measures and Affected Areas. An application should describe the role pricing would play in the congestion reduction strategy. To the extent practical, an application should indicate, in specific terms, how traffic would be affected, what areas or routes would be priced, how congestion prices would be determined, and which vehicle categories would be affected (e.g., single occupant vehicles or all vehicles). If the proposed congestion pricing configuration contemplates a cordon or area pricing system, then the application should specify the approximate area (e.g., ten square miles surrounded by certain highways or natural boundaries).

(5) Transit Services. An application should describe transit services, including BRT and other commuter transit services that are to be provided or supplemented, and the expected impacts of the expanded transit services on congestion. The application should also describe transit fare pricing policies to be adopted with the objective of increasing traveler throughput during peak traffic periods, while avoiding excessive congestion in the transit system.

(6) Financial Plan. An applicant shall (i) describe in reasonable detail, including in the form of itemized costs where appropriate, the proposed uses of funding requested pursuant to this notice and (ii) identify the source of local financing required for the “local match” required under the Section 5309 Bus Program to the extent required.

Dates. Applicants wishing to apply for funding in Fiscal Year 2007 under this announcement must submit their applications on or before May 22, 2007. Selected applicants will be informed of their selection by notice to be published in the Federal Register.

The Administrator, acting on behalf of the Secretary, may amend, revise, waive or modify the terms for funding set forth in this notice at any time, unless otherwise prohibited under 49 U.S.C. 5309 or other relevant law.

Issued on March 12, 2007.
James S. Simpson,
Administrator, Federal Transit Administration.

APPENDIX A

Rating of U.S. Metropolitan Areas by Alternative Measures of Congestion
Census Bureau Metropolitan Statistical Area (MSA) | State(s) | 2003 Population: (000) | 2003 Population: Rank | Travel time index above 1.25? | More than 7.0 daily hours of congestion? | Annual congestion cost above $600 per traveler?
New York-Newark | NY-NJ-CT | 17,700 | 1 | Yes | Yes | Yes.
Los Angeles-Long Beach-Santa Ana | CA | 12,500 | 2 | Yes | Yes | Yes.
Chicago | IL-IN | 8,125 | 3 | Yes | Yes | Yes.
Philadelphia | PA-NJ-DE-MD | 5,285 | 4 | Yes | Yes | Yes.
Miami | FL | 5,100 | 5 | Yes | Yes | Yes.
Dallas-Fort Worth-Arlington | TX | 4,300 | 6 | Yes | Yes | Yes.
Washington | DC-VA-MD | 4,270 | 7 | Yes | Yes | Yes.
San Francisco-Oakland | CA | 4,125 | 8 | Yes | Yes | Yes.
Detroit | MI | 4,050 | 9 | Yes | Yes | Yes.
Boston | MA-NH-RI | 3,990 | 10 | Yes | Yes | Yes.
Houston | TX | 3,750 | 11 | Yes | Yes | Yes.
Atlanta | GA | 3,005 | 12 | Yes | Yes | Yes.
Phoenix | AZ | 3,005 | 12 | Yes | Yes | Yes.
Seattle | WA | 2,900 | 14 | Yes | Yes | Yes.
San Diego | CA | 2,870 | 15 | Yes | Yes | Yes.
Minneapolis-St. Paul | MN | 2,475 | 16 | Yes | Yes | Yes.
St. Louis | MO-IL | 2,075 | 18 | No | Yes | No.
Baltimore | MD | 2,310 | 17 | Yes | Yes | Yes.
Denver-Aurora | CO | 2,050 | 19 | Yes | Yes | Yes.
Tampa-St. Petersburg | FL | 2,050 | 19 | Yes | Yes | Yes.
San Jose | CA | 1,675 | 23 | Yes | Yes | Yes.
Riverside-San Bernardino | CA | 1,670 | 24 | Yes | Yes | Yes.
Portland | OR-WA | 1,670 | 24 | Yes | Yes | Yes.
Sacramento | CA | 1,655 | 26 | Yes | Yes | Yes.
Las Vegas | NV | 1,360 | 31 | Yes | Yes | No.
Orlando | FL | 1,260 | 33 | Yes | Yes | Yes.
Indianapolis | IN | 1,035 | 39 | No | Yes | Yes
Nashville-Davidson | TN | 960 | 41 | No | No | Yes.
Salt Lake City | UT | 920 | 43 | Yes | Yes | No.
Louisville | KY-IN | 890 | 45 | No | Yes | Yes.
Bridgeport-Stamford | CT-NY | 860 | 47 | Yes | Yes | No.
Austin | TX | 855 | 48 | Yes | Yes | Yes.
Charlotte | NC-SC | 725 | 52 | Yes | Yes | Yes.
Tucson | AZ | 720 | 53 | Yes | Yes | Yes.
Oxnard-Ventura | CA | 575 | 65 | No | Yes | No.
Sarasota-Bradenton | FL | 575 | 65 | No | Yes.

[FR Doc. E7-4833 Filed 3-22-07; 8:45 am]

BILLING CODE 4910-57-P